DEPARTMENT OF THE INTERIOR

National Park Service

Notice of Intent to Repatriate Cultural Items: U.S. Department of the Interior, National Park Service, Grand Teton National Park, Moose, WY

AGENCY: National Park Service, Interior.

ACTION: Notice.

Notice is here given in accordance with the Native American Graves Protection and Repatriation Act (NAGPRA), 25 U.S.C. 3005, of the intent to repatriate cultural items in the possession of the U.S. Department of the Interior, National Park Service, Grand Teton National Park, WY, that meet the definition of “sacred objects” under 25 U.S.C. 3001.

This notice is published as part of the National Park Service's administrative responsibilities under NAGPRA, 25 U.S.C. 3003 (d)(3). The determinations in this notice are the sole responsibility of the superintendent, Grand Teton National Park.

The two cultural items are one pipe stem and one pipe bowl. The pipe stem is made of wood and is carved in a spiral shape. The T-shaped bowl is made of diorite and is inlaid with lead at the top of the bowl and at the square section where it fits the stem. The two cultural items are part of the David T. Vernon Collection, comprising 1,429 items of Native American art and artifacts representing more than 200 North American tribes. The objects in the collection were purchased by David T. Vernon from native people and collectors during the 1920s-1950s. On December 13, 1976, Laurance S. Rockefeller donated the David T. Vernon Collection to Grand Teton National Park.

Museum records state that the two cultural items were obtained from Kickapoo Indians. Representatives of the Kickapoo Tribe of Indians of the Kickapoo Reservation in Kansas have identified these two cultural items as “sacred objects” that are integral to the practice of the traditional Drum Religion.

Officials of Grand Teton National Park have determined that, pursuant to 25 U.S.C. 3001 (3)(C), the two cultural items described above are specific ceremonial objects needed by traditional Native American religious leaders for the practice of traditional Native American religions by their present-day adherents. Officials of Grand Teton National Park also have determined that, pursuant to 25 U.S.C. 3001 (2), there is a relationship of shared group identity that can be reasonably traced between the sacred objects and the Kickapoo Tribe of Indians of the Kickapoo Reservation in Kansas.

Representatives of any other Indian tribe that believes itself to be culturally affiliated with the sacred objects should contact Mary Gibson Scott, Superintendent, Grand Teton National Park, P.O. Drawer 170, Moose, WY 83012, telephone (307) 739-3410, before April 26, 2010. Repatriation of the sacred objects to the Kickapoo Tribe of Indians of the Kickapoo Reservation in Kansas may proceed after that date if no additional claimants come forward.

Grand Teton National Park is responsible for notifying the Kickapoo Traditional Tribe of Texas, Kickapoo Tribe of Indians of the Kickapoo Reservation in Kansas, and Kickapoo Tribe of Oklahoma that this notice has been published.

Dated: February 22, 2010
Sherry Hutt,
Manager, National NAGPRA Program.

[FR Doc. 2010-6563 Filed 3-24-10; 8:45 am]

BILLING CODE 4312-50-S